DEPARTMENT OF COMMERCE

International Trade Administration

[C-507-501; C-507-601]

Certain In-Shell Pistachios (C-507-501) and Certain Roasted In-Shell Pistachios (C-507-601) From the Islamic Republic of Iran: Preliminary Results of New Shipper Countervailing Duty Reviews

AGENCY: Import Administration, International Trade Administration, Department of Commerce.

ACTION: Notice of preliminary results of countervailing duty new shipper reviews.

SUMMARY: The Department of Commerce (the Department) is conducting new shipper countervailing duty reviews of the countervailing duty orders on certain in-shell pistachios and certain roasted in-shell pistachios from the Islamic Republic of Iran (Iran) for the period October 1, 2000, through September 30, 2001. If the Final Results remain the same as the Preliminary Results of these new shipper reviews, we will instruct the U.S. Customs Service (Customs) to assess countervailing duties as detailed in the “Preliminary Results of New Shipper Reviews” section of this notice. Interested parties are invited to comment on these Preliminary Results. (See the “Public Comment” section of this notice).

EFFECTIVE DATE: September 4, 2002.

FOR FURTHER INFORMATION CONTACT: Eric B. Greynolds or Darla Brown, AD/CVD Enforcement, Office VI, Group II, Import Administration, U.S. Department of Commerce, Room 4012, 14th Street and Constitution Avenue, NW., Washington, DC 20230; telephone (202) 482-2786.

SUPPLEMENTARY INFORMATION:

Case History

On March 11, 1986, the Department published in the Federal Register the countervailing duty order on certain in-shell pistachios from Iran. See Final Affirmative Countervailing Duty Determination and Countervailing Duty Order: In-Shell Pistachios from Iran, 51 FR 8344 (March 11, 1986) (In-Shell Pistachios). On March 1, 2001, the Department published a notice of “Opportunity to Request an Administrative Review” (66 FR 13283). On September 18, 2001, we received a timely request for a new shipper review from Tehran Negah-Nima Trading Company (Nima), the respondent company in the proceeding.¹ On November 7, 2001, we initiated a new shipper review covering the period October 1, 2000, through September 30, 2001 (66 FR 56277).

¹ The use of the name Nima refers to Tehran Negah-Nima Trading Company as well as its grower, Maghsoudi Farms, and its supplier, Fallah Pistachio.

On October 7, 1986, the Department published in the Federal Register the countervailing duty order on certain roasted in-shell pistachios from Iran. See Final Affirmative Countervailing Determination and Countervailing Duty Order: Roasted In-Shell Pistachios from Iran, 51 FR 35679 (October 7, 1986) (Roasted In-Shell Pistachios). On October 1, 2001, the Department published a notice of “Opportunity to Request an Administrative Review” (66 FR 49923) of this countervailing duty order. We received a timely request for a new shipper review from Nima on September 18, 2001. On November 27, 2001, we initiated a review covering the period October 1, 2000 through September 30, 2001 (66 FR 59235).

On January 18, 2002, we issued our initial questionnaire to the Government of Iran (GOI) and Nima, covering both new shipper reviews of in-shell and roasted in-shell pistachio nuts from Iran. On May 15, 2002, we issued supplemental questionnaires to the GOI and Nima. On July 26, 2002, we issued a second supplemental questionnaire to Nima. On August 6, 2002, we issued a second supplemental questionnaire to the GOI. On August 7, 2002, we issued additional follow-up questions regarding the second supplemental questionnaire issued to Nima.

On April 24, 2002, we extended the period for the completion of the Preliminary Results pursuant to section 751(a)(2)(B)(iv) of the Tariff Act of 1930, as amended (the Act). See Certain In-Shell Pistachios from Iran and Certain In-Shell Roasted Pistachios from Iran: Extension of Time Limit for Preliminary Results of Countervailing Duty New Shipper Reviews, 67 FR 20093 (April 24, 2002).

In accordance with 19 CFR 351.214, these new shipper reviews cover only those producers or exporters for which a review was specifically requested. Accordingly, these new shipper reviews cover Nima and nine programs.

Applicable Statute and Regulations

Unless otherwise indicated, all citations to the statute are references to the provisions of the Tariff Act of 1930 (the Act), as amended by the Uruguay Round Agreements Act (URAA), effective January 1, 1995. In addition, unless otherwise indicated, all citations to the Department's regulations are to the current regulations as codified at 19 CFR part 351 (2001).

New Subsidy Allegations Alleged by Petitioners

On December 11, 2001, petitioners submitted new subsidy allegations.² On January 4, 2002, petitioners submitted documentation in support of their new subsidy allegations. Upon review of petitioners' new subsidy allegations, we initiated an investigation on two additional programs allegedly operated by the GOI: Duty Refunds on Imported Raw or Intermediate Materials Used in the Production of Exported Goods and a Quality Improvement Program for Dried Fruit Exports. For more information, see the May 8, 2002, New Subsidies Allegations Memorandum from the team to Melissa G. Skinner, Director, Office of AD/CVD Enforcement VI, Import Administration, a public document on file in room B-099 of the Main Commerce Building.

² Petitioners are composed of members of the California Pistachio Commission.

Scope of Reviews

In-Shell Pistachios

The product covered by this new shipper review is in-shell pistachio nuts from which the hulls have been removed, leaving the inner hard shells and edible meat, as currently classifiable in the Harmonized Tariff Schedules of the United States (HTSUS) under item number 0802.50.20.00. The written description of the scope of this proceeding is dispositive.

Roasted In-Shell Pistachios

The product covered by this new shipper review is all roasted in-shell pistachio nuts, whether roasted in Iran or elsewhere, from which the hull has been removed, leaving the inner hard shells and the edible meat, as currently classifiable in the HTSUS under item number 0802.50.20.00. The written description of the scope of this proceeding is dispositive.

Analysis of Programs

Programs Preliminarily Determined To Be Not Used

Based on the information supplied by Nima, we preliminarily determine that the programs listed below were not used during the POR. For further discussion of the Export Certificate Voucher Program, see the August 27, 2002, memorandum from the team to Melissa G. Skinner, Director, Office of AD/CVD Enforcement VI, Import Administration, a public document, which is on file in room B-099 of the Central Records Unit located in the Main Commerce building.

A. Export Certificate Voucher Program

B. Price Supports and/or Guaranteed Purchase of All Production

C. Provision of Fertilizer and Machinery

D. Provision of GOI Credit

E. Tax Exemptions

F. Provision of Water and Irrigation

G. Technical Assistance from the GOI

H. Duty Refunds on Imported Raw or Intermediate Materials Used in the Production of Export Goods

I. Program to Improve Quality of Exports of Dried Fruit

Preliminary Results of New Shipper Reviews

In accordance with section 751(a)(2)(B)(i) of the Act, we determined an individual rate for each manufacturer of the subject merchandise participating in these new shipper reviews. We preliminarily determine the total estimated net countervailable subsidy rates to be:

In-Shell Pistachios
Producer/exporter | Net subsidy rate
Tehran Negah-Nima Trading Company | 0.00 percent ad valorem.

Roasted In-Shell Pistachios
Producer/exporter | Net subsidy rate
Tehran Negah-Nima Trading Company | 0.00 percent ad valorem.

As provided for in the Act and 19 CFR 351.106(c)(1) of the Department's Regulations, any rate less than 0.5 percent ad valorem in a new shipper review is de minimis. Accordingly, if the Final Results of these new shipper reviews remain the same as these Preliminary Results, no customs duties will be assessed. The Department will instruct Customs to liquidate without regard to countervailing duties, shipments of the subject merchandise (e.g., in-shell and roasted in-shell pistachios from Iran) for Nima entered, or withdrawn from warehouse, for consumption on or after October 1, 2000 and on or before September 30, 2001. Also, the cash deposit rates will be set at zero for this company. The Department will issue appropriate appraisement instructions directly to the Customs Service within 15 days of publication of the final results of review.

Public Comment

In accordance with 19 CFR 351.310, we will hold a public hearing, if requested, to afford interested parties an opportunity to comment on these Preliminary Results. Any such hearing is tentatively scheduled to be held 37 days from the date of publication of these Preliminary Results, at the U.S. Department of Commerce, 14th Street and Constitution Avenue, NW., Washington, DC 20230. Individuals who wish to request a hearing must submit a written request within 30 days of the publication of this notice in the Federal Register to the Assistant Secretary for Import Administration, U.S. Department of Commerce, Room 1870, 14th Street and Constitution Avenue, NW., Washington, DC 20230. Parties should confirm by telephone the time, date, and place of the hearing 48 hours before the scheduled time.

Requests for a public hearing should contain: (1) The party's name, address, and telephone number; (2) the number of participants; and, (3) to the extent practicable, an identification of the arguments to be raised at the hearing. Parties may file case briefs pursuant to 19 CFR 351.309(c)(ii). Six copies of the business proprietary version and six copies of the non-proprietary version of the case briefs must be submitted to the Assistant Secretary no later than 30 days from the date of publication of the preliminary determination. As part of the case brief, parties are encouraged to provide a summary of the arguments not to exceed five pages and a table of statutes, regulations, and cases cited. Parties may also submit rebuttal briefs pursuant to 19 CFR 351.309(d). Six copies of the business proprietary version and six copies of the non-proprietary version of the rebuttal briefs must be submitted to the Assistant Secretary no later than 5 days from the date of filing of the case briefs. An interested party may make an affirmative presentation only on arguments included in that party's case or rebuttal briefs. Further written arguments should be submitted in accordance with 19 CFR 351.309 and will be considered if received within the time limits specified above.

These determinations are issued and published pursuant to sections 751(a)(2)(B)(iv) and 777(i) of the Act.

Dated: August 27, 2002.
Joseph A. Spetrini,
Acting Assistant Secretary for Import Administration.

[FR Doc. 02-22536 Filed 9-3-02; 8:45 am]

BILLING CODE 3510-DS-P